FEDERAL COMMUNICATIONS COMMISSION

[DA 00-368]

Wireless Telecommunications Bureau Seeks Comment on Airadigm Communications Inc.'s Contingent Emergency Petition for Reinstatement or in the Alternative for Waiver

AGENCY: Federal Communications Commission.

ACTION: Notice.

SUMMARY: The Wireless Telecommunications Bureau (Bureau) seeks Comment on Airadigm Communications Inc.'s Contingent Emergency Petition for Reinstatement or in the Alternative for waiver of the automatic cancellation of its PCS C and F block licenses.

DATES: Comments are due March 17, 2000 and reply comments are due March 31, 2000.

ADDRESSES: Comments and replies should be filed with the Office of the Secretary, Federal Communications Commission, TW B204, 445 12th St. SW Washington, DC 20554. Copies of the comments and replies should also be provided to José M. Ochoa, Auctions and Industry Analysis Division, Rm. 4-B544, Wireless Telecommunications Bureau, Federal Communications Commission, 445 12th St. SW Washington, DC 20554. All comments should reference DA 00-368.

FOR FURTHER INFORMATION: José M. Ochoa of the Auctions and Industry Analysis Division at (202) 418-0660.

SUPPLEMENTARY INFORMATION: This is a summary of a Public Notice released February 24, 2000 (Notice). The complete text of the Notice is available for inspection and copying during normal business hours in the FCC Reference Center (Room CY-A257), 445 12th Street, SW, Washington, DC. It may also be purchased from the Commission's copy contractor, International Transcription Services, Inc., (ITS, Inc.) 1231 20th Street, NW, Washington, DC 20035, (202) 857-3800. It is also available on the Commission's web site at http://www.fcc.gov/wtb/auctions.

1. Airadigm Communications Inc. (“Airadigm”) filed a “Contingent Emergency Petition for Reinstatement or in the Alternative for Waiver” (the “Petition”) of the automatic cancellation of its PCS C and F Block licenses. Airadigm argues that reinstating its licenses, or granting a waiver of cancellation of its licenses, would serve the public interest by permitting the continued delivery of wireless services.

2. Parties should not construe the Bureau's request for comment on Airadigm's petition to include the operation of the Commission's automatic cancellation rules or the effect of bankruptcy on the operation of those rules. We intend by this notice to limit comment to Airadigm's request for regulatory relief in the form of license reinstatement, or alternativately, a waiver of the automatic cancellation of the licenses under the Commission's rules.

3. This proceeding has been designated as a “permit-but-disclose” proceeding in accordance with the Commission's ex parte rules. 47 CFR 1.1200(a), 1.1206. Persons making oral ex parte presentations are reminded that memoranda describing the presentations must contain summaries of the substance of the presentations and not merely a listing of the subjects discussed. More than a one or two sentence description of the views and arguments presented is generally required. See 47 CFR 1.1206(b). Other rules pertaining to oral and written ex parte presentations in permit-but-disclose proceedings are set forth in § 1.1206(b) of the Commission's rules, 47 CFR 1.1206(b).

4. The Airadigm petition is available for public inspection and copying in the Reference Center, Room CY A257, 445 12th St., SW, Washington, DC 20554. Copies of the petition are also available from ITS at 1231 20th St. NW, Washington, DC 20036, or by calling (202) 857-3800.

Federal Communications Commission.
Louis J. Sigalos,
Deputy Chief, Auctions & Industry Analysis Division.

[FR Doc. 00-5097 Filed 3-2-00; 8:45 am]

BILLING CODE 6712-01-P